SMALL BUSINESS ADMINISTRATION

[Disaster Declaration # 11295 and # 11296]

West Virginia Disaster Number WV-00009

AGENCY: U.S. Small Business Administration.

ACTION: Amendment 2.

SUMMARY: This is an amendment of the Presidential declaration of a major disaster for the State of West Virginia (FEMA-1769-DR), dated 06/19/2008.

Incident: Severe Storms, Tornadoes, Flooding, Mudslides, and Landslides.

Incident Period: 06/03/2008 through 06/07/2008.

Effective Date: 07/08/2008.

Physical Loan Application Deadline Date: 08/19/2008.

EIDL Loan Application Deadline Date: 03/17/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of West Virginia, dated 06/19/2008 is hereby amended to include the following areas as adversely affected by the disaster:

Primary Counties: (Physical Damage and Economic Injury Loans):

Clay

Contiguous Counties: (Economic Injury Loans Only):

West Virginia: Fayette, Nicholas

All other information in the original declaration remains unchanged.

(Catalog of Federal Domestic Assistance Numbers 59002 and 59008)

James E. Rivera,
Acting Associate Administrator for Disaster Assistance.

[FR Doc. E8-16112 Filed 7-14-08; 8:45 am]

BILLING CODE 8025-01-P